DEPARTMENT OF ENERGY

Federal Energy Regulatory Commission

[Docket No. EL16-25-000]

Startrans, IO, LLC; Notice Pursuant to Section 206(b) of the Federal Power Act

On December 30, 2015, pursuant to section 206 of the Federal Power Act (FPA),¹ the Commission instituted a proceeding in Docket No. EL16-25-000. Startrans IO, LLC, 153 FERC ¶ 61,360 (2015). The refund effective date for the proceeding instituted in Docket No. EL16-25-000 is January 6, 2016, the date of publication in the Federal Register ² of notice of the Commission's action in this proceeding.

¹ 16 U.S.C. 824e (2012).

² 81 FR 476-01 (2016).

Under section 206 of the FPA, if no final decision is rendered by the conclusion of the 180-day period commencing upon initiation of a proceeding pursuant to section 206, the Commission must state why it has failed to render a final decision. In that event the Commission must also provide its best estimate as to when it reasonably expects to make such a decision.

The Commission will be unable to render a final decision within the time prescribed in section 206(b) because the proceeding is pending before a settlement judge.

In a June 13, 2016 report to the Commission, the settlement judge estimated that if the proceeding does not settle, a presiding judge would issue an initial decision within 47 weeks of the designation of a presiding judge. The Commission will require approximately four months after briefs on and opposing exceptions to an initial decision are filed to review the record, the initial decision and the briefs, and to issue an opinion. This estimate is influenced by the issues in the proceeding, as well as the complexity of the issues.

Assuming that the proceeding does not settle, the best estimate of when the Commission will reach a final decision in Docket No. EL16-25-000 is December 31, 2017.

The Secretary of the Commission issues this notice pursuant to section 375.302(w) of the Commission's rules, 18 CFR 375.302(w) (2015).

Dated: June 29, 2016.
Kimberly D. Bose,
Secretary.

[FR Doc. 2016-15945 Filed 7-5-16; 8:45 am]

BILLING CODE 6717-01-P